DEPARTMENT OF AGRICULTURE

Federal Crop Insurance Corporation

7 CFR Part 457

RIN 0563-AB96

Common Crop Insurance Regulations, Macadamia Nut Crop Insurance Provisions; Correction

AGENCY: Federal Crop Insurance Corporation, USDA.

ACTION: Correcting amendment; correction.

SUMMARY: This document contains corrections to the correcting amendment which was published September 27, 2010 (75 FR 59057). The regulation, as here pertinent, related to the insurance of macadamia nuts.

DATES: Effective Date: January 25, 2011.

FOR FURTHER INFORMATION CONTACT: Erin Albright, Risk Management Specialist, Product Management, Product Administration and Standards Division, Risk Management Agency, United States Department of Agriculture, Beacon Facility, Stop 0812, Room 421, P.O. Box 419205, Kansas City, MO 64141-6205, telephone (816) 926- 7730.

SUPPLEMENTARY INFORMATION:

Background

The correcting amendment that is the subject of this correction revised the Macadamia Nut Crop Insurance Provisions to specify the correct crop year to which it was applicable. It was published September 27, 2010 (75 FR 59057).

Need for Correction

As published, the Background of the correcting amendment contained an error which may prove to be misleading and which needs to be clarified. The sentence in the background stated “The 2011 contract change date for the Macadamia Nut Crop Insurance Provisions is August 31, 2010, which is prior to April 30, 2011.” This sentence should have stated “The 2011 contract change date for the Macadamia Nut Crop Insurance Provisions is August 31, 2009, which is prior to April 30, 2010.”

Correction of Publication

In FR Doc. 2010-23884, on page 59057 in the issue of September 27, 2010, make the following correction, in the SUPPLEMENTARY INFORMATION section. On page 59057 in the second column, correct the third sentence of the second paragraph in the Background section under “Need for Correction” to read: “The 2011 contract change date for the Macadamia Nut Crop Insurance Provisions is August 31, 2009, which is prior to April 30, 2010.”

Signed in Washington, DC, on January 14, 2011.
William J. Murphy,
Manager, Federal Crop Insurance Corporation.

[FR Doc. 2011-1423 Filed 1-24-11; 8:45 am]

BILLING CODE 3410-08-P